NATIONAL AERONAUTICS AND SPACE ADMINISTRATION

[Notice: (23-035)]

Heliophysics Advisory Committee; Space Weather Council; Meeting

AGENCY: National Aeronautics and Space Administration.

ACTION: Notice of meeting.

SUMMARY: In accordance with the Federal Advisory Committee Act, Public Law 92-463, as amended, the National Aeronautics and Space Administration (NASA) announces a meeting of the Space Weather Council (SWC). The SWC is a subcommittee of the Heliophysics Advisory Committee (HPAC), which functions in an advisory capacity to the Director, Heliophysics Division, in the NASA Science Mission Directorate. The meeting will be held for the purpose of soliciting, from the science community and other persons, scientific and technical information relevant to program planning.

DATES: Wednesday, May 10, 2023, 9:00 a.m. to 5:00 p.m.; and Thursday, May 11, 2023, 9:00 a.m. to 5:00 p.m., Eastern Time.

ADDRESSES: Meeting will be virtual. See dial-in information below under SUPPLEMENTARY INFORMATION.

FOR FURTHER INFORMATION CONTACT: Mrs. Karshelia Kinard, Science Mission Directorate, NASA Headquarters, Washington, DC 20546, (202) 358-2355 or karshelia.kinard@nasa.gov.

SUPPLEMENTARY INFORMATION: This meeting will be available by Webex or telephonically. Any interested person may join via Webex at https://nasaenterprise.webex.com, the meeting number is 2760 118 1129, and the password is 6RUjyzgM?56 (case sensitive), both days. To join by telephone call, use US Toll +1-415-527-5035 (access code: 2760 679 3993), both days, to participate in this meeting by telephone.

The agenda for the meeting includes the following topics:

• Discussion of SWC future advisory topics and activities such as:

○ Coordination of Space Weather Council with other Space Weather Groups

○ Space Weather Science and Modeling Gap Analysis

○ Space Weather and Deep Space Exploration

○ Interagency and International Collaboration in Space Weather Science

Patricia Rausch,
Advisory Committee Management Officer, National Aeronautics and Space Administration.

[FR Doc. 2023-08725 Filed 4-24-23; 8:45 am]

BILLING CODE 7510-13-P